INTERNATIONAL TRADE COMMISSION

[Inv. No. 337-TA-631]

In the Matter of Certain Liquid Crystal Display Devices and Products Containing the Same; Notice of Commission Determination To Modify a Limited Exclusion Order and Cease and Desist Orders

AGENCY: U.S. International Trade Commission.

ACTION: Notice.

SUMMARY: Notice is hereby given that the U.S. International Trade Commission has determined to modify the limited exclusion order and cease and desist orders issued in the above-captioned investigation.

FOR FURTHER INFORMATION CONTACT: Clint A. Gerdine, Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 25, 2008, based on a complaint filed by Samsung Electronics Co., Ltd. (“Samsung”) of Korea. 73 FR 4626-27. The complaint, as supplemented, alleges violations of section 337 of the Tariff Act of 1930, as amended, 19 U.S.C. **1337, in the importation into the United States, the sale for importation, and the sale within the United States after importation of certain liquid crystal display (“LCD”) devices and products containing the same by reason of infringement of certain claims of U.S. Patent Nos. 7,193,666; 6,771,344 (“the '344 patent”); 7,295,196; and 6,937,311 (“the `311 patent”). The complaint further alleges the existence of a domestic industry as to each asserted patent. The Commission's notice of investigation named the following respondents: Sharp Corporation of Japan; Sharp Electronics Corporation of Mahwah, New Jersey; and Sharp Electronics Manufacturing, Company of America, Inc. of San Diego, California.

On January 26, 2009, the ALJ issued his final initial determination (“ID”) finding a violation of section 337 by respondents as to the '311 and '344 patents only, and issued his recommended determinations on remedy and bonding. On February 9, 2009, Sharp and the Commission investigative attorney (“IA”) filed petitions for review of the final ID. The IA and Samsung filed responses to the petitions on February 17, 2009.

On March 30, 2009, the Commission determined to review the ID and requested submissions regarding the issues under review as well as remedy, the public interest and bonding. On June 24, 2009, the Commission determined that there is a violation of section 337 of the Tariff Act of 1930, as amended, and issued a limited exclusion order directed to all respondents and cease and desist orders directed to the respondents located in the U.S..

On November 24, 2009, Sharp petitioned to modify the remedial orders under Commission Rule 210.76(a)(1) in view of the remedial orders issued in 337-TA-634, Certain Liquid Crystal Display Modules, Products Containing Same, and Methods for Using the Same. The IA filed a response in support of the petition on November 30, 2009. On December 2, 2009, Samsung filed a response opposing the petition if not supplemented. On December 8, 2009, Sharp moved for leave to file a reply brief. The Commission has determined to deny Sharp's motion for leave to file a reply.

Having reviewed the parties' submissions, the Commission has determined that Sharp's petition satisfies the requirement of Commission Rule 210.76(a)(1), 19 CFR 210.76(a)(1), for modifying the remedial orders. Accordingly, the Commission has issued orders modifying the remedial orders previously issued in this investigation.

This action is taken under the authority of section 337 of the Tariff Act of 1930 (19 U.S.C. 1337) and section 210.76(a)(1) of the Commission's Rules of Practice and Procedure (19 CFR 210.76(a)(1)).

By order of the Commission.
Issued: December 14, 2009.
Marilyn R. Abbott,
Secretary.

[FR Doc. E9-30141 Filed 12-17-09; 8:45 am]

BILLING CODE 7020-02-P